DEPARTMENT OF TRANSPORTATION

Federal Aviation Administration

Public Notice for Waiver for Aeronautical Land-Use Assurance at Saline County Regional Airport, Benton, AR

AGENCY: Federal Aviation Administration, DOT.

ACTION: Notice of Intent for Waiver of Aeronautical Land-Use.

SUMMARY: The Federal Aviation Administration (FAA) is considering a proposal to change a portion of the airport from aeronautical use to nonaeronautical use and to authorize the conversion of the airport property. The proposal consists of one parcel of land containing a total of approximately 3.19 acres located on the west side of the airport at the corner of Hazel Street and 4th Street.

The parcel was originally acquired as part of a donation to the County of Saline in 1999. The land comprising this parcel is outside the forecasted need for aviation development and, thus, is no longer needed for indirect or direct aeronautical use. The airport wishes to develop this land for compatible commercial, nonaeronautical use. The income from the conversion of this parcel will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with Section 47107(h) of Title 49, United States Code, this notice is required to be published in the Federal Register 30 days before modifying the land-use assurance that requires the property to be used for an aeronautical purpose.

DATES: Comments must be received on or before July 19, 2012.

ADDRESSES: Send comments on this document to Mr. Edward N. Agnew, Federal Aviation Administration, Manager, Arkansas/Oklahoma Airports Development Office, 2601 Meacham Boulevard, Fort Worth, TX 76137.

FOR FURTHER INFORMATION CONTACT: Mr. Mark Westbrook, Airport Chairman, Saline County Regional Airport Commission, P.O. Box 1628, Benton, AR 72018, telephone (501) 672-9809, or Mr. John E. Michener, Federal Aviation Administration, Arkansas/Oklahoma Airports Development Program Manager, 2601 Meacham Boulevard, Fort Worth, TX 76137, telephone (817) 222-5687, FAX (817) 222-5987. Documents reflecting this FAA action may be reviewed at the above locations.

Issued in Fort Worth, Texas, on June 7, 2012.
Joseph G. Washington,
Acting Manager, Airports Division, FAA, Southwest Region.

[FR Doc. 2012-14864 Filed 6-18-12; 8:45 am]

BILLING CODE 4910-13-P